DEPARTMENT OF THE INTERIOR

National Park Service

[NPS-WASO-NRNHL-22657; PPWOCRADI0, PCU00RP14.R50000]

National Register of Historic Places; Notification of Pending Nominations and Related Actions

AGENCY: National Park Service, Interior.

ACTION: Notice.

SUMMARY: The National Park Service is soliciting comments on the significance of properties nominated before December 24, 2016, for listing or related actions in the National Register of Historic Places.

DATES: Comments should be submitted by March 21, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before December 24, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Du Page County

Lake Ellyn Park, 645 Lenox Rd., Glen Ellyn, SG100000628

Kankakee County

Chipman, Edward, Public Library, 126 N. Locust St., Momence, SG100000629

NEW MEXICO

Dona Ana County

Dunbar, Paul Laurence, Elementary School, 325 Holguin Rd., Vado, SG100000630

WISCONSIN

Sheboygan County

S and R Cheese Company, 2-18 E. Main St., Plymouth, SG100000631

Nominations submitted by Federal Preservation Officers:

ARKANSAS

Jefferson County

Federal Building—U.S. Post Office and Courthouse, 100 E. 8th St., Pine Bluff, SG100000626

The State Historic Preservation Officer reviewed the nomination and responded to the Federal Preservation Officer within 45 days of receipt of the nomination and supports listing the property in the National Register of Historic Places.

A request for removal has been made for the following resource(s):

VIRGINIA

Charlottesville Independent city

Rose Cottage—Peyton House, (Charlottesville MRA), 800 Delevan St., Charlottesville (Independent City), OT83003273

Dinwiddie County

Central State Hospital Chapel, West Washington St. Extended, Petersburg, OT10000794

Mathews County

Donk's Theatre, 259 Buckley Hall Rd., Hudgins, OT10001185

Norfolk Independent city

HUNTINGTON (Tugboat), 1 Waterside Dr.—Nauticus Pier, Norfolk (Independent City), OT99000958

Patrick County

Bob White Covered Bridge, About 2.5 mi. S. of Woolwine off VA 618, over Smith River, Woolwine vicinity, OT73002049

Portsmouth Independent city

Circle, The, 3010 High St., Portsmouth (Independent City), OT06000120

Spotsylvania County

Bloomsbury Farm, 9736 Courthouse Rd., Spotsylvania Court House vicinity, OT00000479

An additional documentation has been received for the following resource(s):

OREGON

Marion County

Gaiety Hollow, 545 Mission St. NE., Salem, AD14000895

Multnomah County

Holden, William B., House (Boundary Decrease), 6353 SE. Yamill St., Portland, AD16000755

UTAH

Salt Lake County

Green, Alvin and Annie, House, (Sandy City MPS), 8400 Danish Rd., Cottonwood Heights, AD00000356

Authority: 60.13 of 36 CFR part 60.

Dated: December 28, 2016.
J. Paul Loether,
Chief, National Register of Historic Places/National Historic Landmarks Program.

[FR Doc. 2017-04237 Filed 3-3-17; 8:45 am]

BILLING CODE 4310-52-P